DEPARTMENT OF ENERGY

Federal Energy Regulatory Commission

[Docket No. RP01-410-000]

Algonquin LNG, Inc.; Notice of Tariff Filing

May 8, 2001.

Take notice that on May 4, 2001, Algonquin LNG, Inc. (ALNG) tendered for filing as part of its FERC Gas Tariff, First Revised Volume No. 1, the following tariff sheets proposed to be effective June 4, 2001:

Fourth Revised Sheet No. 29

Original Sheet No. 84

Sheet Nos. 85-88

ALNG states that the purpose of this filing is to amend its tariff, as suggested by the Commission in its April 12, 2001, Order Denying Clarification and Rehearing in Docket No. CP95-218-004, to include a generic waiver of the “shipper must have title” rule and a general statement that it will only transport for others on off-system capacity pursuant to its existing tariff and rates.

ALNG states that copies of its filing have been mailed to all affected customers and interested state commissions.

Any person desiring to be heard or to protest said filing should file a motion to intervene or protest with the Federal Energy Regulatory Commission, 888 First Street, NE., Washington, DC 20426, in accordance with Sections 385.214 or 385.211 of the Commission's Rules and Regulations. All such motions or protests must be filed in accordance with Section 154.210 of the Commission's Regulations. Protests will be considered by the Commission determining the appropriate action to be taken, but will not serve to make protestants parties to the proceedings. Any person wishing to become a party must file a motion to intervene. Copies of this filing are on file with the Commission and are available for public inspection in the Public Reference Room. This filing may also be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood Watson, Jr.,
Acting Secretary.

[FR Doc. 01-11986 Filed 5-11-01; 8:45 am]

BILLING CODE 6717-01-M